DEPARTMENT OF ENERGY

Federal Energy Regulatory Commission

Combined Notice of Filings #1

Take notice that the Commission received the following electric rate filings:

Docket Numbers: ER12-420-000.

Applicants: Consumers Energy Company.

Description: Response of Consumers Energy Company to January 12, 2012 Deficiency Letter.

Filed Date: 2/8/12.

Accession Number: 20120208-5143.

Comments Due: 5 p.m. ET 2/29/12.

Docket Numbers: ER12-1025-000.

Applicants: AEP Texas North Company.

Description: 20120208 TNC-Kaiser Creek SUA Cancellation to be effective 1/10/2012.

Filed Date: 2/8/12.

Accession Number: 20120208-5081.

Comments Due: 5 p.m. ET 2/29/12.

Docket Numbers: ER12-1026-000.

Applicants: Midwest Independent Transmission System Operator, Inc.

Description: C005-P11 FCA Filing to be effective 2/9/2012.

Filed Date: 2/8/12.

Accession Number: 20120208-5083.

Comments Due: 5 p.m. ET 2/29/12.

Docket Numbers: ER12-1027-000.

Applicants: AEP Texas North Company.

Description: 20120208 TNC-FRV Bryan Solar IA to be effective 12/28/2011.

Filed Date: 2/8/12.

Accession Number: 20120208-5087.

Comments Due: 5 p.m. ET 2/29/12.

Docket Numbers: ER12-1028-000.

Applicants: Duke Energy Carolinas, LLC.

Description: Rutherford PPA Filing to be effective 1/1/2011.

Filed Date: 2/8/12.

Accession Number: 20120208-5088.

Comments Due: 5 p.m. ET 2/29/12.

Docket Numbers: ER12-1029-000.

Applicants: Midwest Independent Transmission System Operator, Inc.

Description: 02-08-12 Schedule 31 Annual Update to be effective 4/9/2012.

Filed Date: 2/8/12.

Accession Number: 20120208-5128.

Comments Due: 5 p.m. ET 2/29/12.

Docket Numbers: ER12-1030-000.

Applicants: Spinning Spur Wind LLC, Spinning Spur Interconnect LLC, Spinning Spur Wind Two LLC.

Description: Spinning Spur Baseline Common Facilities Agreement and Company Agreement Filing to be effective 4/8/2012.

Filed Date: 2/8/12.

Accession Number: 20120208-5129.

Comments Due: 5 p.m. ET 2/29/12.

Take notice that the Commission received the following land acquisition reports:

Docket Numbers: LA11-3-000.

Applicants: Black Hills Power, Inc., Black Hills/Colorado Electric Utility Company, LP, Black Hills Wyoming, LLC, Cheyenne Light, Fuel and Power Company, Enserco Energy, Inc.

Description: Black Hills Utilities submits revised Third Quarter 2011 Site Control Quarterly Filing.

Filed Date: 2/8/12.

Accession Number: 20120208-5142.

Comments Due: 5 p.m. ET 2/29/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2012.
Nathaniel J. Davis, Sr.,
Deputy Secretary.

[FR Doc. 2012-3885 Filed 2-17-12; 8:45 am]

BILLING CODE 6717-01-P